DEPARTMENT OF THE INTERIOR

Bureau of Ocean Energy Management

[MMAA 104000]

Outer Continental Shelf (OCS), Gulf of Mexico (GOM), Oil and Gas Lease Sales, Western Planning Area (WPA) Lease Sales 246 and 248

AGENCY: Bureau of Ocean Energy Management (BOEM), Interior.

ACTION: Notice of Availability (NOA) and Announcement of Public Meetings and Comment Period for the Draft Supplemental Environmental Impact Statement (EIS) for Proposed GOM Oil and Gas WPA Lease Sales 246 and 248.

SUMMARY: Consistent with the regulations implementing the National Environmental Policy Act, as amended (42 U.S.C. 4321 et seq.) (NEPA), BOEM has prepared a Draft Supplemental EIS for proposed WPA oil and gas Lease Sales 246 and 248 in the GOM (WPA 246/248 Draft Supplemental EIS). Proposed Lease Sales 246 and 248 are tentatively scheduled to be held in August 2015 and 2016, respectively, in the WPA offshore the States of Texas and Louisiana. The WPA 246/248 Draft Supplemental EIS updates the environmental and socioeconomic analyses in the Gulf of Mexico OCS Oil and Gas Lease Sales: 2012-2017; Western Planning Area Lease Sales 229, 233, 238, 246, and 248; Central Planning Area Lease Sales 227, 231, 235, 241, and 247, Final Environmental Impact Statement (OCS EIS/EA BOEM 2012-019) (2012-2017 WPA/CPA Multisale EIS), Gulf of Mexico OCS Oil and Gas Lease Sales: 2013-2014; Western Planning Area Lease Sale 233; Central Planning Area Lease Sale 231, Final Supplemental Environmental Impact Statement (OCS EIS/EA BOEM 2013-0118) (WPA 233/CPA 231 Supplemental EIS), and Gulf of Mexico OCS Oil and Gas Lease Sales: 2014-2016; Western Planning Area Lease Sales 238, 246, and 248, Final Supplemental Environmental Impact Statement (OCS EIS/EA BOEM 2014-009) (WPA 238/246/248 Supplemental EIS).

FOR FURTHER INFORMATION CONTACT: For more information on the WPA 246/248 Draft Supplemental EIS, you may contact Mr. Gary D. Goeke, Bureau of Ocean Energy Management, Gulf of Mexico OCS Region, Office of Environment (GM 623E), 1201 Elmwood Park Boulevard, New Orleans, Louisiana 70123-2394 or by email at wpa246@boem.gov. You may also contact Mr. Goeke by telephone at (504) 736-3233.

SUPPLEMENTARY INFORMATION: BOEM developed the WPA 246/248 Draft Supplemental EIS to consider new information made available since completion of the 2012-2017 WPA/CPA Multisale EIS, WPA 233/CPA 231 Supplemental EIS, and WPA 238/246/248 Supplemental EIS, and to consider new information related to the Deepwater Horizon explosion, oil spill, and response. The WPA 246/248 Draft Supplemental EIS provides updates on the baseline conditions and potential environmental effects of oil and natural gas leasing, exploration, development, and production in the WPA. BOEM conducted an extensive search for new information, reviewing scientific journals and available scientific data and information from academic institutions and Federal, State, and local agencies; and interviewing personnel from academic institutions and Federal, State, and local agencies. BOEM examined the potential impacts of routine activities and accidental events and the proposed lease sales' incremental contribution to the cumulative impacts on environmental and socioeconomic resources. The oil and gas resource estimates and scenario information for the WPA 246/248 Draft Supplemental EIS are presented as a range that would encompass the resources and activities estimated for a proposed WPA lease sale.

Draft Supplemental EIS Availability: You may download or view the WPA 246/248 Draft Supplemental EIS on BOEM's Web site at http://www.boem.gov/nepaprocess/. In keeping with the Department of the Interior's mission to protect natural resources and to limit costs, while ensuring availability of the document to the public, BOEM will primarily distribute digital copies of the WPA 246/248 Draft Supplemental EIS on compact discs. BOEM has printed and will be distributing a limited number of paper copies. If you require a paper copy, BOEM will provide one upon request if copies are still available. You may obtain a copy of the WPA 246/248 Draft Supplemental EIS from the Bureau of Ocean Energy Management, Gulf of Mexico OCS Region, Public Information Office (GM 335A), 1201 Elmwood Park Boulevard, Room 250, New Orleans, Louisiana 70123-2394 (1-800-200-GULF).

Several libraries along the Gulf Coast have been sent copies of the WPA 246/248 Draft Supplemental EIS. To find out which libraries have copies of the WPA 246/248 Draft Supplemental EIS for review, you may contact BOEM's Public Information Office or visit BOEM's Internet Web site at http://www.boem.gov/nepaprocess/.

Comments: All interested parties, including Federal, State, Tribal, and local governments, and other organizations and members of the public, may submit written comments on the WPA 246/248 Draft Supplemental EIS in one of the following ways:

1. In an envelope labeled “Comments on the WPA 246 and 248 Draft Supplemental EIS” and mailed (or hand carried) to Mr. Gary D. Goeke, Chief, Environmental Assessment Section, Office of Environment (GM 623E), Bureau of Ocean Energy Management, Gulf of Mexico OCS Region, 1201 Elmwood Park Boulevard, New Orleans, Louisiana 70123-2394;

2. Through the regulations.gov web portal: Navigate to http://www.regulations.gov and search for “Oil and Gas Lease Sales: Gulf of Mexico, Outer Continental Shelf; Western Planning Area Lease Sales 246 and 248” (Note: It is important to include the quotation marks in your search terms.) Click on the “Comment Now!” button to the right of the document link. Enter your information and comment, then click “Submit”; or

3. Through BOEM's email address: wpa246@boem.gov.

Comments should be submitted no later than 45 days from the publication of this NOA. Pursuant to the regulations implementing the procedural provisions of NEPA, BOEM will hold public meetings in Texas and Louisiana to solicit comments on the WPA 246/248 Draft Supplemental EIS. These meetings are scheduled as follows:

• Houston, Texas: Tuesday, September 23, 2014, Houston Airport Marriott at George Bush Intercontinental, 18700 John F. Kennedy Boulevard, Houston, Texas 77032, one meeting beginning at 1:00 p.m. CDT; and,

• New Orleans, Louisiana: Thursday, September 25, 2014, Bureau of Ocean Energy Management, 1201 Elmwood Park Boulevard, New Orleans, Louisiana 70123, one meeting beginning at 1:00 p.m. CDT.

Public Disclosure of Names and Addresses

As BOEM does not consider anonymous comments, please include your name and address as part of your submittal. BOEM makes all comments, including the names and addresses of respondents, available for public review during regular business hours. Individual respondents may request that BOEM withhold their names and/or addresses from the public record; however, BOEM cannot guarantee that we will be able to do so. If you wish your name and/or address to be withheld, you must state your preference prominently at the beginning of your comment. All submissions from organizations or businesses and from individuals identifying themselves as representatives or officials of organizations or businesses will be made available for public inspection in their entirety.

Authority: This NOA is published pursuant to the regulations (40 CFR 1503) implementing the provisions of NEPA.

Dated: August 1, 2014.
L. Renee Orr,
Acting Director, Bureau of Ocean Energy Management.

[FR Doc. 2014-21008 Filed 9-4-14; 8:45 am]

BILLING CODE 4310-MR-P